DEPARTMENT OF COMMERCE

National Oceanic and Atmospheric Administration

[RTID 0648-XB539]

Workshop on the Management Strategy Evaluation for Atlantic Bluefin Tuna

AGENCY: National Marine Fisheries Service (NMFS), National Oceanic and Atmospheric Administration (NOAA), Commerce.

ACTION: Notice of workshop.

SUMMARY: NMFS is holding a public workshop via webinar for the Advisory Committee to the U.S. Section to the International Commission for the Conservation of Atlantic Tunas (ICCAT) and interested stakeholders to discuss the progress of development of the Management Strategy Evaluation for Atlantic bluefin tuna.

DATES: A virtual workshop that is open to the public will be held on November 4, 2021, from 2 p.m. to 4 p.m. EDT.

ADDRESSES: Please register to attend the workshop at: https://forms.gle/9tkjiYw5VMvGAsjZ7. Registration will close on November 3, 2021, at 5 p.m. EDT. Instructions for accessing the virtual workshop will be emailed to registered participants.

FOR FURTHER INFORMATION CONTACT: Rachel O'Malley, Office of International Affairs and Seafood Inspection, (301) 427-8373 or at Rachel.O'Malley@noaa.gov.

SUPPLEMENTARY INFORMATION: Management strategy evaluation (MSE) is a process that allows fishery managers and stakeholders (e.g., industry, scientists, and non-governmental organizations) to assess how well different strategies achieve specified management objectives for a fishery. ICCAT has been engaged in developing an MSE for bluefin tuna for several years. NMFS, and the United States more broadly, participates in this MSE development process and has been engaging stakeholders and considering their input throughout the process through various means, including consultation with the Advisory Committee to the U.S. Section to ICCAT. The United States also participates in the development of the bluefin tuna MSE through active participation by U.S. scientists in ICCAT's Standing Committee on Research and Statistics (SCRS).

The November 4 workshop is intended to update stakeholders on the MSE approach being developed by ICCAT, including an update on preliminary candidate management procedures that will help to illustrate management tradeoffs for Atlantic bluefin tuna. The workshop will primarily be informational and educational. No binding decisions or formal, consensus-based recommendations will be made. While discussions at the workshop will help to inform U.S. scientists who are participating in work of the SCRS, recommendations directly affecting the development of the U.S. position relative to the bluefin tuna MSE will occur through established means, including consultation with the Advisory Committee. This workshop is intended to complement, not replace, existing opportunities for U.S. stakeholder input.

Authority: 16 U.S.C. 971 et seq.; 16 U.S.C. 1801 et seq.

Dated: October 25, 2021.
Alexa Cole,
Director, Office of International Affairs and Seafood Inspection, National Marine Fisheries Service.

[FR Doc. 2021-23506 Filed 10-25-21; 4:15 pm]

BILLING CODE 3510-22-P